DEPARTMENT OF LABOR

Employment and Training Administration

[TA-W-53,542]

Bunnies by the Bay, Anacortes, Washington; Notice of Termination of Investigation

Pursuant to section 221 of the Trade Act of 1974, as amended, an investigation was initiated on November 17, 2003 in response to a petition filed by the company on behalf of workers at Bunnies by the Bay, Anacortes, Washington.

The petitioner has requested that the petition be withdrawn. Consequently, the investigation has been terminated.

Signed at Washington, DC this 31st day of December, 2003.
Richard Church,
Certifying Officer, Division of Trade Adjustment Assistance.

[FR Doc. 04-654 Filed 1-12-04; 8:45 am]

BILLING CODE 4510-30-P